DEPARTMENT OF COMMERCE

National Institute of Standards and Technology

Visiting Committee on Advanced Technology

AGENCY: National Institute of Standards and Technology, Department of Commerce.

ACTION: Notice of public meeting.

SUMMARY: The Visiting Committee on Advanced Technology (VCAT or Committee), National Institute of Standards and Technology (NIST), will hold an open meeting via webinar/teleconference on Monday, July 14, from 11:00 a.m. to 12:30 p.m. Eastern Time. The primary purpose of this meeting is to review, discuss, finalize, and adopt recommendations of the VCAT Subcommittee on Cybersecurity regarding NIST's cryptographic standards and guidelines program.

DATES: The VCAT will meet via webinar/teleconference on Monday, July 14, 2014 from 11:00 a.m. to 12:30 p.m. Eastern Time. The meeting will be open to the public.

ADDRESSES: Questions regarding the meeting should be sent to VCAT, NIST, 100 Bureau Drive, Mail Stop 1060, Gaithersburg, Maryland 20899-1060. For instructions on how to participate in this meeting via webinar/teleconference, please see the SUPPLEMENTARY INFORMATION section of this notice.

FOR FURTHER INFORMATION CONTACT: Stephanie Shaw, VCAT, NIST, 100 Bureau Drive, Mail Stop 1060, Gaithersburg, Maryland 20899-1060, telephone number 301-975-2667. Ms. Shaw's email address is stephanie.shaw@nist.gov.

SUPPLEMENTARY INFORMATION:

Authority: 15 U.S.C. 278 and the Federal Advisory Committee Act, as amended, 5 U.S.C. App.

The VCAT is composed of fifteen members appointed by the NIST Director who are eminent in such fields as business, research, new product development, engineering, labor, education, management consulting, environment, and international relations. Background information about the VCAT is available at http://www.nist.gov/director/vcat/.

The primary purpose of this meeting is to review, discuss, finalize, and adopt the recommendations of the VCAT Subcommittee on Cybersecurity regarding NIST's cryptographic standards and guidelines program. The agenda may change to accommodate Committee business. The final agenda will be posted on the NIST Web site at http://www.nist.gov/director/vcat/agenda.cfm. Interested members of the public will be able to participate in the meeting from remote locations by participating in a webinar/teleconference.

Individuals and representatives of organizations who would like to offer comments and suggestions related to the Committee's affairs are invited to request a place on the agenda. Approximately one-half hour of the meeting will be reserved from 12:00 p.m.-12:30 p.m. Eastern Time for public comments, and speaking times will be assigned on a first-come, first-serve basis. The amount of time per speaker will be determined by the number of requests received, but is likely to be about 3 minutes each. Questions from the public will not be considered during this period. Speakers who wish to expand upon their oral statements, those who had wished to speak but could not be accommodated on the agenda, and those who were unable to participate are invited to submit written statements to VCAT, NIST, 100 Bureau Drive, MS 1060, Gaithersburg, Maryland, 20899, via fax at 301-216-0529 or electronically by email to laurel.miner@nist.gov.

All participants in the meeting are required to pre-register. Anyone wishing to participate must register by close of business Monday, July 7, 2014 in order to be included. Please submit your name, email address and phone number to Stephanie Shaw by 5:00 p.m. Eastern Time, Monday, July 7, 2014. After pre-registering, participants will be provided with detailed instructions on how to dial in from a remote location in order to participate. Ms. Shaw's email address is stephanie.shaw@nist.gov and her phone number is 301-975-2667.

Dated: June 19, 2014.
Willie E. May,
Acting Under Secretary for Standards and Technology and Acting Director.

[FR Doc. 2014-15181 Filed 6-26-14; 8:45 am]

BILLING CODE 3510-13-P